DEPARTMENT OF COMMERCE

International Trade Administration

Meeting of the United States Manufacturing Council

AGENCY: International Trade Administration, U.S. Department of Commerce.

ACTION: Notice of an open meeting.

SUMMARY: The United States Manufacturing Council (Council) will hold an open meeting via livestream on Wednesday, August 3, 2016. The Council was established in April 2004 to advise the Secretary of Commerce on matters relating to the U.S. manufacturing industry. The purpose of the meeting is for Council members to review and deliberate a letter that summarizes the Council's recommendations and provides advice to the Secretary on the future of the Manufacturing Council. The final agenda will be posted on the Department of Commerce Web site for the Council at http://www.trade.gov/manufacturingcouncil/, at least one week in advance of the meeting.

DATES: Wednesday, August 3, 2016, 9:00 a.m.-12:00 p.m.

ADDRESSES: The United States Manufacturing Council meeting will be broadcast via live webcast on the Internet at http://whitehouse.gov/live.

FOR FURTHER INFORMATION CONTACT: Archana Sahgal, U.S. Manufacturing Council, Room 4043, 1401 Constitution Avenue NW., Washington, DC 20230, telephone: 202-482-4501, email: archana.sahgal@trade.gov.

SUPPLEMENTARY INFORMATION: Background: The Council advises the Secretary of Commerce on matters relating to the U.S. manufacturing industry.

Public Participation: The public is invited to submit written statements to the United States Investment Advisory Council. Statements must be received by 5:00 p.m. EDT June 14, 2016 by either of the following methods:

a. Electronic Submissions

Submit statements electronically to Archana Sahgal, Executive Secretary, United States Manufacturing Council via email: Archana.Sahgal@trade.gov.

b. Paper Submissions

Send paper statements to Archana Sahgal, Executive Secretary, United States Manufacturing Council, Room 4043, 1401 Constitution Avenue NW., Washington, DC 20230. Statements will be posted on the United States Manufacturing Council website (http://www.trade.gov/manufacturingcouncil) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: July13, 2016.
Archana Sahgal,
Executive Secretary, U.S. Manufacturing Council.

[FR Doc. 2016-17046 Filed 7-18-16; 8:45 am]

BILLING CODE 3510-DR-P